DEPARTMENT OF THE INTERIOR

National Park Service

[NPS-WASO-CONC-32568; PPWOBSADC0, PPMVSCS1Y.Y00000]

Notice of Intent To Extend and Continue Concession Contracts and Award Temporary Concession Contracts

AGENCY: National Park Service, Interior.

ACTION: Public notice.

SUMMARY: The National Park Service gives public notice that, pursuant to the terms of the concession contracts identified in the tables below, as applicable, and in accordance with NPS regulations, it intends to: (1) Extend each concession contract listed in Table 1 until the date shown in the “Extension Date” column or until the effective date of a new contract, whichever comes first; (2) continue each concession contract listed in Table 2 for a period not to exceed one year beginning on January 1, 2022; and (3) award the temporary concession contracts listed in Table 3.

DATES: The National Park Service intends that the concession contract extensions, continuations, temporary concession contracts, and sole source concession contracts will be effective on the dates shown in the “Effective Date” columns, as applicable.

FOR FURTHER INFORMATION CONTACT: Kurt Rausch, Program Chief, Commercial Services Program, National Park Service, 1849 C Street NW, Mail Stop 2410, Washington, DC 20240; Telephone: 202-513-7156.

SUPPLEMENTARY INFORMATION: The concession contracts listed in Table 1 below will expire by their terms on or before October 31, 2022. Under 36 CFR 51.23, the National Park Service proposes to extend each contract until the date shown in the “Extension Date” column or until the effective date of a new contract, whichever comes first. The National Park Service has determined that the proposed extensions are necessary to avoid an interruption of visitor services and has taken all reasonable and appropriate steps to consider alternatives to avoid such an interruption. The extension of the existing contracts does not confer or affect any rights with respect to the award of new contracts.

The concession contracts listed in Table 2 below have been extended for the maximum time allowable under 36 CFR 51.23. Under the provisions of the existing contracts and pending the issuance of prospectuses and the completion of the public solicitation process to award new concession contracts, the National Park Service intends to continue the existing contracts for a period not to exceed one year beginning on January 1, 2022. Except for their expiration dates, the terms and conditions of the existing contracts will remain unchanged. The continuation of the existing contracts does not confer or affect any rights with respect to the award of new concession contracts.

The National Park Service proposes awarding temporary concession contracts, in accordance with 36 CFR 51.24(a), to provide the visitor services currently provided under the contracts listed in Table 3 below. Each temporary contract will have a term not to exceed three years, and each will be awarded to a qualified person. The National Park Service anticipates that the temporary contracts will be effective on the dates shown in the “Effective Date” column. This notice is not a request for proposals.

The publication of this notice reflects the intent of the National Park Service but does not bind the National Park Service to extend, continue, or award any of the contracts listed below.

Table 1—Concession Contracts Extended Until the Date Shown or Until the Effective Date of a New Contract, Whichever Comes First
Park unit | CONCID | Concessioner | Extension effective date | Extension expiration date
Badlands NP | BADL001-09 | Forever Resorts | 1/1/2022 | 10/31/2022
Bryce Canyon NP | BRCA003-10 | The Lodge at Bryce Canyon, LLC | 1/1/2022 | 12/31/2022
Channel Islands NP | CHIS001-11 | The Island Packers Corporation | 1/1/2023 | 12/31/2023
Crater Lake NP | CRLA003-12 | The Shuttle Inc | 5/1/2022 | 4/30/2023
Denali NP&P | DENA013-20 | Denali National Park Wilderness Centers, Ltd | 1/1/2022 | 12/31/2022
Denali NP&P | DENA030-17 | Kantishna Air Taxi Inc | 1/1/2022 | 12/31/2022
Death Valley NP | DEVA002-11 | NEG282, LLC | 1/13/2022 | 1/12/2023
Dry Tortugas NP | DRTO001-08 | Yankee Freedom III, LLC | 11/1/2022 | 10/31/2023
Everglades NP | EVER005-10 | Florida National Parks and Monuments Assoc | 9/1/2022 | 8/31/2023
Fire Island NS | FIIS003-09 | Sayville Ferry Service, Inc | 11/1/2021 | 10/31/2022
Fire Island NS | FIIS004-11 | Davis Park Ferry Co., Inc | 11/1/2021 | 10/31/2022
Fort McHenry NM&HS | FOMC001-10 | Evelyn Hill Corporation | 12/1/2021 | 12/31/2022
Grand Canyon NP | GRCA034-12 | Bright Angel Bicycles, LLC | 3/1/2022 | 2/28/2023
Great Smoky Mtns NP | GRSM010-10 | Great Smoky Mountains Association | 1/1/2022 | 12/31/2022
Hot Springs NP | HOSP002-12 | Buckstaff Bath House Company | 1/1/2022 | 12/31/2022
Isle Royale NP | ISRO001-10 | Isle Royale Line, Inc | 1/1/2022 | 12/31/2022
Muir Woods NM | MUWO001-09 | Cloudless Skies Parks Company, LLC | 10/1/2021 | 4/30/2022
Olympic NP | OLYM003-10 | Aramark Sports & Entertainment Services LLC | 2/1/2022 | 1/31/2023
Ozark NSR | OZAR001-10 | Harvey's Alley Spring Canoe Rental, LLC | 1/1/2022 | 12/31/2022
Ozark NSR | OZAR011-12 | Current River Canoe | 1/1/2022 | 12/31/2022
Ozark NSR | OZAR016-12 | Carr's Grocery and Canoe Rental, LLC | 1/1/2022 | 12/31/2022
Ozark NSR | OZAR018-10 | Two Rivers Canoes, LLC | 1/1/2022 | 12/31/2022
Pictured Rocks NL | PIRO001-10 | Pictured Rocks Cruises, Inc | 1/1/2022 | 12/31/2022
Point Reyes NS | PORE003-11 | American Youth Hostels, Inc | 10/17/2022 | 10/16/2023
Rocky Mountain NP | ROMO009-12 | Meeker Park Lodge, Inc | 1/1/2022 | 12/31/2022
Rocky Mountain NP | ROMO011-12 | YMCA of the Rockies | 1/1/2022 | 12/31/2022
Rocky Mountain NP | ROMO012-12 | Dao House, LLC | 1/1/2022 | 12/31/2022
Rocky Mountain NP | ROMO013-12 | Wind River Ministries, Inc | 1/1/2022 | 12/31/2022
Rocky Mountain NP | ROMO016-12 | S K Horses, LTD | 1/1/2022 | 12/31/2022
Rocky Mountain NP | ROMO017-12 | Sombrero Ranches, Inc | 1/1/2022 | 12/31/2022
Rocky Mountain NP | ROMO018-12 | Winding River Resort, Inc | 1/1/2022 | 12/31/2022
Rocky Mountain NP | ROMO019-12 | Cheley Colorado Camps, Inc | 1/1/2022 | 12/31/2022
Rocky Mountain NP | ROMO022-12 | Girl Scouts of Colorado | 1/1/2022 | 12/31/2022
Rocky Mountain NP | ROMO028-12 | S K Horses, LTD | 1/1/2022 | 12/31/2022
Rocky Mountain NP | ROMO029-12 | S K Horses, LTD | 1/1/2022 | 12/31/2022
Southeast Region | SERO001-09 | America's National Parks, Inc | 1/1/2022 | 12/31/2022
Voyageurs NP | VOYA002-11 | Oveson Kab-Con, Inc | 1/1/2022 | 12/31/2022
Yosemite NP | YOSE001-10 | Best's Studio, Inc | 3/1/2022 | 2/28/2023

Table 2—Concession Contracts Continued for a Period Not To Exceed One Year Beginning on January 1, 2022
Park unit | CONCID | Concessioner
Cape Hatteras National Seashore | CAHA001-98 | Koru Village Incorporated
Glen Canyon National Recreation Area | GLCA002-88 | ARAMARK Sports and Entertainment Services, Inc.
Glen Canyon National Recreation Area | GLCA003-69 | ARAMARK Sports and Entertainment Services, Inc.
Lake Mead National Recreation Area | LAKE001-73 | LMNRA Guest Services, LLC
Lake Mead National Recreation Area | LAKE002-82 | LMNRA Guest Services, LLC
Lake Mead National Recreation Area | LAKE005-97 | LMNRA Guest Services, LLC
Lake Mead National Recreation Area | LAKE006-74 | Las Vegas Boat Harbor, Inc.
Lake Mead National Recreation Area | LAKE009-88 | LMNRA Guest Services, LLC
Interior Region 1—National Capital Area | NACC003-86 | Guest Services, Inc.

Table 3—Temporary Concession Contracts
Park unit | CONCID | Services | Effective date
Buck Island NS | BUIS015-20 | Interpretive Boat Tours | 7/14/2022
Golden Gate NRA | GOGA002-22 | Hostel, Food and Beverage, Retail, Other Services | 5/1/2022
Great Smoky Mtns NP | GRSM002-22 | Backcountry Lodging, Food and Beverage, Retail | 1/1/2022
Great Smoky Mtns NP | GRSM003-22 | Retail | 1/1/2022
Prince William Forest Park | PRWI001-22 | Campground | 1/1/2022
Yellowstone NP | YELL004-21 | Fuel, Service Stations, Retail | 11/1/2021
Zion NP | ZION003-22 | Lodging, Food and Beverage, Retail, Other Services | 1/1/2022

Kurt Rausch,
Acting Associate Director, Business Services.

[FR Doc. 2021-25953 Filed 11-26-21; 8:45 am]

BILLING CODE 4312-53-P